DEPARTMENT OF ENERGY

Federal Energy Regulatory Commission

Notice of Application Accepted for Filing and Soliciting Motions to Intervene and Protest

August 20, 2002.

Take notice that the following hydroelectric application has been filed with the Commission and is available for public inspection.

a. Type of Application: Original License (1.5 MW).

b. Project No.: P-11485-001.

c. Date Filed: September 04, 2001.

d. Applicant: Midwest Hydro, Inc.

e. Name of Project: Delhi Milldam Hydroelectric Project.

f. Location: Located on the South Fork Maquoketa River near Delhi, in Delaware County, Iowa. There are no Federal lands located within the project boundary.

g. Filed Pursuant to: Federal Power Act 16 U.S.C. 791 (a)-825(r).

h. Applicant Contact: Mr. Loyal Gake, P.E., Midwest Hydro, Inc., 116 State Street, P.O.Box 167, Neshkoro, WI 54960, (920) 293-4628.

i. FERC Contact: John Ramer, (202) 502-8969 or E-Mail John.Ramer@ferc.gov.

j. Deadline for filing motions to intervene and protest: 60 days from the issuance date of this notice.

All documents (original and eight copies) should be filed with: Magalie R. Salas, Secretary, Federal Energy Regulatory Commission, 888 First Street, NE, Washington, DC 20426. Comments, protests and interventions may be filed electronically via the Internet in lieu of paper; see 18 CFR 385-2001(a)(1)(iii) and the instructions on the Commission's web site under the “e-Filing” link. The Commission strongly encourages electronic filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Pursuant to Order No. 619, ¹ the Federal Energy Regulatory Commission (FERC) now accepts certain “qualified documents” via the Internet in lieu of paper filing. “Qualified documents” may be submitted electronically only by accessing the E-Filing link at www.ferc.gov. The Commission does not accept comments or other documents related to proceedings before the Commission via e-mail. Comments received via e-mail are not placed in the public record.

¹ III FERC Stats. & Regs., Regulations Preambles ¶ 31,107.

“Qualified documents” that may by submitted electronically in lieu pf paper and the procedures for e-filing “qualified documents” are described in FERC's User Guide for Electronic Filing of Qualified Documents, which can be accessed via FERC's website www.ferc.gov/e-filing. For assistance with filing qualified documents electronically, you can contract FERC's public reference room during normal business hours, 8:30 am to 5:00 pm Eastern time, by phone at (202) 502-8371 or by e-mail at publicreferenceroom@ferc.fed.us.

k. Status of environmental analysis: This application is not ready for environmental analysis at this time.

l. The proposed Delhi Milldam Hydroelectric Project would consist of the following existing facilities: (1) An existing 702-foot-long and about 59-foot-high dam, with an 86-foot-long ogee type spillway and 25-foot-wide by 17-foot-high vertical sluice gates; (2) an existing 880-acre reservoir having a negligible storage capacity at elevation 892 feet mean sea level (msl); (3) a 61-foot-long by approximately 51-foot-wide powerhouse containing two open-flume Francis turbines each with a maximum hydraulic capacity of 276 cubic feet per second (cfs) and two generators each rated at 750 kilowatts (kW) for a total installed capacity of 1500 kW; and (4) appurtenant facilities, such as, governors and electric switchgear. No transmission line exists, although a commercial sub-station is located within 100 feet of the powerhouse. The dam and existing project facilities are owned by Lake Delhi Recreation Association, Inc.

The Delhi Milldam Project will include refurbishing each of the existing inoperable turbine/generator sets. New governors, electric switchgear, and controls will be installed, including a programmable control system which will automatically operate the project with capability of remote surveillance and operation. No civil work is proposed. The project's generating capacity will be 1500 kW and will generate an average of about 2.96 million kilowatthours annually.

m. A copy of the application is available for inspection and reproduction during normal business hours (8:30 a.m. to 5 p.m. Eastern time) at the Commission's Public Reference Room, located at 888 First Street, NE, Room 2-A, Washington, DC 20426, or by calling (202)502-8371. In addition, the application may be viewed and/or printed via the internet through FERC's Home Page (http://www.ferc.gov). From FERC's Home Page on the internet, the application and other filings and issuances regarding this application are available in the Federal Energy Regulatory Records Information System (FERRIS). To access this information in FERRIS, for the Delhi Milldam Hydroelectric Project license application, enter the application's docket number (i.e., P-11485) and sub-docket number (i.e., 001) where specified. User assistance is available for FERRIS and FERC's website, during normal business hours, from our Help line at (202) 502-8222 or the Public Reference Room at (202) 502-8371. A copy of the application is also available for inspection and reproduction from the applicant at the address in item h. above.

n. Individuals desiring to be included on the Commission's mailing list should so indicate by writing to the Secretary of the Commission.

o. Procedural schedule and final amendments: The application will be processed according to the following milestones, some of which may be combined to expedite processing:

Milestone Activity and Date

Notice Of Application Accepted For Filing and Soliciting Motions To Intervene And Protests, August 2002

Acceptance Letter w/ Additional Information Request, August 2002

Issue Scoping Document, August 2002

Notice Application Ready For EA (REA) and Soliciting Comments and Recommendations, February 2003

Notice Of Availability Of EA, April 2003

Order Issuing The Commission's Decision On The Application, May 2003

Final amendments to the application must be filed with the Commission no later than 45 days from the issuance date of the notice that the application is REA and soliciting comments and recommendations. As noted in item k. above, the application is not ready for environmental analysis now, and we are not issuing a REA notice now.

p. With this notice, we are initiating consultation with the Iowa State Historic Preservation Officer (SHPO), as required by § 106, National Historic Preservation Act, and the regulations of the Advisory Council on Historic Preservation, 36 CFR 800.4.

q. This notice also consists of the following standard paragraphs:

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—All filings must (1) bear in all capital letters the title “Protest” or “Motion to Intervene;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Linwood A. Watson, Jr.,
Deputy Secretary.

[FR Doc. 02-21722 Filed 8-26-02; 8:45 am]

BILLING CODE 6717-01-P